DEPARTMENT OF DEFENSE

Department of the Army, Corps of Engineers

Table Rock Lake Oversight Committee Meetings Notice

AGENCY: Department of the Army, U.S. Army Corps of Engineers, DoD.

ACTION: Notice of revised dates for open committee meetings and request for comments.

SUMMARY: The Department of Defense (DoD) published a notice that announced the second meeting of the Table Rock Lake Oversight Committee, which was to take place on Thursday, January 23, 2020 from 8:00 a.m. to 5:00 p.m., had been cancelled and would be re-scheduled at a later date, along with meetings three and four. DoD is publishing this notice to announce the revised schedule for Meetings 2, 3, and 4 of the Federal advisory committee meetings of the Table Rock Lake Oversight Committee (TRLOC). The meetings are open to the public. Public comments are requested.

DATES: The meetings will be held on:

Meeting 2: Thursday, March 5, 2020, 8 a.m. to 5 p.m.

Meeting 3: Wednesday, May 6, 2020, 8 a.m. to 5 p.m.

Meeting 4: Thursday, July 16, 2020, 8 a.m. to 12 p.m.

ADDRESSES: The meetings are being held at Dewey Short Visitor Center, Table Rock Lake, 4500 MO-165, Branson, MO 65616.

FOR FURTHER INFORMATION CONTACT: Mr. Kevin McDaniels, Designated Federal Officer (DFO) for the Committee, in writing at U.S. Army Corps of Engineers, Little Rock District, Operations Division, P.O. Box 867 Little Rock, Arkansas 72203-0867, by phone at 501-324-5556, or by email at CESWL-TRLOC-DFO@usace.army.mil.

SUPPLEMENTARY INFORMATION: These meetings are being held pursuant to the implementation of Section 1185(c) of the Water Resources Development Act of 2016 (130 Stat. 1680) and under the provisions of the Federal Advisory Committee Act (FACA) (Pub. L. 92-463, 86 Stat. 770.), the Sunshine in the Government Act of 1976 (U.S.C. 552b, as amended) and 41 Code of the Federal Regulations (CFR 102-3.150).

Purpose of the Meetings: The TRLOC is an independent Federal advisory committee established as directed by Section 1185(c) of the Water Resources Development Act of 2016 (130 Stat. 1680). The committee is advisory in nature only with duties to include providing information and recommendations to the U.S. Army Corps of Engineers, Little Rock District Engineer on revisions to the Table Rock Lake Master Plan and Shoreline Management Plan. The TRLOC may also, at the discretion of the District Engineer, review any permit to be issued under the provisions of the existing master plan and shoreline management plan until any approved revisions are finalized and become part of the formal governing documents.

Proposed Agendas:

Agenda—Meeting 2

I. Call to Order, DFO and TRLOC Chairperson

II. Public Comment Session

III. Committee Discussion/Questions/Recommendations on Master Plan

IV. Committee Discussion/Questions/Recommendations on Shoreline Management Plan

V. Adjournment

Agenda—Meeting 3

I. Call to Order, DFO and TRLOC Chairperson

II. Corps Presentation on Draft Master and Shoreline Management Plans

III. Public Comment Session

IV. Committee Discussion/Questions/Recommendations on Master Plan

V. Committee Discussion/Questions/Recommendations on Shoreline Management Plan

VI. Adjournment

Agenda—Meeting 4

I. Call to Order, DFO and TRLOC Chairperson

II. Corps Presents Final Master Plan and Shoreline Management Plan

III. Committee Questions/Comments on Final Plans

IV. Adjournment

Public's Accessibility to the Meeting: Pursuant to 5 U.S.C. 552b and 41 CFR 102-3.140 through 102-3.165, and the availability of space, each meeting is open to the public. Seating is on a first-come, first-served basis. The Dewey Short Visitor Center is readily accessible to and usable by persons with disabilities. For additional information about public access procedures, contact Mr. Kevin McDaniels, the Committee's Designated Federal Officer, at the email address listed in the FOR FURTHER INFORMATION CONTACT section.

Written Comments and Statements: Pursuant to 41 CFR 102-3.105(j) and 102-3.140 and section 10(a)(3) of the Federal Advisory Committee Act, the public or interested organizations may submit written comments or statements to the Committee, in response to the stated agenda of the open meeting or in regard to the Committee's mission in general. Written comments or statements should be submitted via email to CESWL-TableRockSMP_FAC@usace.army.mil or by mail to the US Army Corps of Engineers, Table Rock Lake Oversight Committee, P.O. Box 867, Little Rock, Arkansas 72203-0867. Each page of the comment or statement must include the author's name, title or affiliation, address, and daytime phone number. Written comments or statements being submitted in response to the agenda set forth in this notice must be received by the Designated Federal Officer at least seven business days prior to the third meeting to be considered by the Committee. The Designated Federal Officer and the Committee Chair will review all timely submitted written comments or statements and ensure the comments are provided to all members of the Committee before the meeting. Written comments or statements received after this date will not be provided to the Committee, as their final recommendations will be submitted to the District Engineer for consideration during the third meeting. Please note that because the TRLOC operates under the provisions of the Federal Advisory Committee Act, as amended, all written comments will be treated as public documents and will be made available for public inspection.

Pursuant to 41 CFR 102-3.140d, the Committee is not obligated to allow a member of the public to speak or otherwise address the Committee during the meeting. Members of the public will be permitted to make verbal comments during the Committee meeting only at the time and in the manner described below. A three (3) hour period will be provided near the beginning of Meeting 2 and Meeting 3 for verbal comments. In the interest of time and for allowing everyone to be heard, individuals will be given a maximum of 2 minutes to address their comments to the TRLOC. Individuals will not be allowed to transfer time to other individuals. A court reporter will be in attendance to record the TRLOC meetings.

Dated: January 28, 2020.
Paul E. Owen,
Brigadier General, U.S. Army Commanding.

[FR Doc. 2020-02368 Filed 2-5-20; 8:45 am]

BILLING CODE 3720-58-P